DEPARTMENT OF LABOR

Occupational Safety and Health Administration

[Docket No. OSHA-2009-0026]

Curtis-Straus LLC; Application for Renewal of Recognition; Extension of Comment Period

AGENCY: Occupational Safety and Health Administration (OSHA), Labor.

ACTION: Notice; extension of comment period.

SUMMARY: The Occupational Safety and Health Administration (OSHA) is extending the comment period for its notice presenting the Agency's preliminary finding on the application of Curtis Straus LLC (CSL) for renewal of its Nationally Recognized Testing Laboratory (NRTL).

DATES: Submit information or comments, or a request to extend the comment period, on or before December 14, 2011. All submissions must bear a postmark or provide other evidence of the submission date.

ADDRESSES: Submit comments by any of the following methods:

Electronically: Submit comments electronically at http://www.regulations.gov, which is the Federal eRulemaking Portal. Follow the instructions online for making electronic submissions.

Fax: If submissions, including attachments, are no longer than 10 pages, commenters may fax submissions to the OSHA Docket Office at (202) 693-1648.

Mail, hand delivery, express mail, or messenger or courier service: Submit one copy of the comments to the OSHA Docket Office, Docket No. OSHA-2009-0026, U.S. Department of Labor, Room N-2625, 200 Constitution Avenue NW., Washington, DC 20210. The Docket Office accepts deliveries (hand, express mail, and messenger and courier service) during the Department of Labor's and Docket Office's normal business hours, 8:15 a.m.-4:45 p.m., e.t.

Instructions: All submissions must include the Agency name and the OSHA docket number (i.e., OSHA-2009-0026). OSHA will place all submissions, including any personal information provided, in the public docket without revision, and will make these submissions available online at http://www.regulations.gov.

Docket: To read or download submissions or other material in the docket (e.g., exhibits listed below), go to http://www.regulations.gov or the OSHA Docket Office at the address above. The http://www.regulations.gov index lists all documents in the docket; however, some information (e.g., copyrighted material) is not publicly available to read or download through the Web site. All submissions, including copyrighted material, are available for inspection and copying at the OSHA Docket Office.

Extension of comment period: Submit requests for an extension of the comment period on or before December 14, 2011 to the Office of Technical Programs and Coordination Activities, NRTL Program, Occupational Safety and Health Administration, U.S. Department of Labor, 200 Constitution Avenue NW., Room N-3655, Washington, DC 20210, or by fax to (202) 693-1644.

FOR FURTHER INFORMATION CONTACT: Bernard Pasquet, Office of Technical Programs and Coordination Activities, NRTL Program, U.S. Department of Labor, Room N-3655, 200 Constitution Avenue NW., Washington, DC 20210; telephone (202) 693-2110.

SUPPLEMENTARY INFORMATION:

Extension of Comment Period

OSHA is extending the comment period of the notice (76 FR 62850, October 11, 2011) preliminarily denying the renewal of recognition of CSL as an NRTL. This notice requested comments by November 10, 2011. However, comments submitted electronically may have been rejected because the notice referenced the wrong docket number. This extension allows those affected commenters to submit their comments.

Authority and Signature

David Michaels, Ph.D., MPH, Assistant Secretary of Labor for Occupational Safety and Health, 200 Constitution Avenue NW., Washington, DC 20210, authorized the preparation of this notice. Accordingly, the Agency is issuing this notice pursuant to Sections 6(b) and 8(g) of the Occupational Safety and Health Act of 1970 (29 U.S.C. 655 and 657), Secretary of Labor's Order No. 4-2010 (75 FR 55355), and 29 CFR part 1911.

Signed at Washington, DC, on November 22, 2011.
David Michaels,
Assistant Secretary of Labor for Occupational Safety and Health.

[FR Doc. 2011-30660 Filed 11-28-11; 8:45 am]

BILLING CODE 4510-26-P